DEPARTMENT OF DEFENSE

Office of the Secretary

Establishment of Department of Defense Federal Advisory Committees-Strategic and Critical Materials Board of Directors

AGENCY: Department of Defense (DoD).

ACTION: Establishment of Federal advisory committee.

SUMMARY: The DoD is publishing this notice to announce that it is establishing the Strategic and Critical Materials Board of Directors (S&CM BoD).

FOR FURTHER INFORMATION CONTACT: Jim Freeman, DoD Advisory Committee Management Officer at james.d.freeman4.civ@mail.mil, 703-697-1142.

SUPPLEMENTARY INFORMATION: This non-discretionary committee is being established pursuant to 50 United States Code (U.S.C.) 98h-1(a) and in accordance with Chapter 10 of Title 5, U.S.C. (commonly known as the Federal Advisory Committee Act (FACA)) and 41 Code of Federal Regulations (CFR) 102-3.50(a). The charter and contact information for the S&CM BoD's Designated Federal Officer (DFO) are found at https://www.facadatabase.gov/FACA/apex/+FACAPublicAgencyNavigation.

The S&CM BoD is a non-discretionary Federal Advisory Committee established to provide independent advice and recommendations to strengthen the industrial base with respect to materials critical to national security and, in particular, address challenges and opportunities concerning the National Defense Stockpile (NDS) program.

The S&CM BoD shall be composed of at least 13 and no more than 20 members. Nine members are required pursuant to 50 U.S.C. 98h-1(b): the Assistant Secretary of Defense for Industrial Base Policy (ASD(IBP)), who shall serve as chairman of the S&CM BoD; one designee of each of the Secretary of Commerce, the Secretary of State, the Secretary of Energy, and the Secretary of the Interior; one designee of each of the Chairman and Ranking Member of the Readiness Subcommittee of the House Committee on Armed Services; one designee of each of the Chairman and Ranking Member of the Readiness Subcommittee of the Senate Committee on Armed Services.

In evaluating those candidates for the S&CM BoD not required by statute, the DoD considers the education, life experience, and professional credentials of individuals as they relate to the subject matters anticipated to be tasked to the S&CM BoD. Membership selection will capitalize on talented, innovative private and public sector leaders to provide a diverse and inclusive S&CM BoD membership that is fairly balanced and promotes variety in background, experience, and thought in support of the mission of the S&CM BoD focusing on those with expertise relating to military affairs, defense procurement, production of strategic and critical materials, finance, or any other disciplines deemed necessary to conduct the business of the S&CM BoD.

S&CM BoD members who are not full-time or permanent part-time Federal civilian officers or employees, or active-duty members of the Uniformed Services, shall be appointed as experts or consultants pursuant to 5 U.S.C. 3109 to serve as special government employee members and are entitled, pursuant to 10 U.S.C. 1114(a)(3), to receive pay at the daily equivalent of the annual rate of basic pay of the highest rate of basic pay under the General Schedule of subchapter 53 of title 5 U.S.C., for each day the member is engaged in the performance of duties vested in the S&CM BoD. S&CM BoD members who are full-time or permanent part-time Federal civilian officers or employees, or members of the uniformed Services, shall be appointed pursuant to 41 CFR 102-3.130(a) to serve as regular government employee members.

Individual S&CM BoD members are appointed according to DoD policy and procedures and serve a term of service of one-to-four years with annual renewals. No member, unless approved according to DoD policy and procedures, may serve more than two consecutive terms of service on the S&CM BoD, or serve on more than two DoD Federal advisory committees at one time.

All S&CM BoD members are appointed to provide advice to the DoD based on their best judgment without representing any particular point of view and in a manner that is free from conflict of interest. Except for reimbursement of official S&CM BoD-related travel and per diem, members serve without compensation.

The public or interested organizations may submit written statements to the S&CM BoD membership about its mission and functions. Written statements may be submitted at any time or in response to the stated agenda of planned meeting of the S&CM BoD. All written statements shall be submitted to the S&CM BoD DFO, who will ensure that written statements are provided to the S&CM BoD membership for their consideration.

Dated: December 11, 2024.
Aaron T. Siegel,
Alternate OSD Federal Register Liaison Officer, Department of Defense.

[FR Doc. 2024-29577 Filed 12-13-24; 8:45 am]

BILLING CODE 6001-FR-P